DEPARTMENT OF AGRICULTURE

Grain Inspection, Packers and Stockyards Administration

[01-01-A]

Opportunity for Designation in the Amarillo (TX), Cairo (IL), Fostoria (OH), Louisiana, North Carolina, Belmond (IA), and Wisconsin Areas, and Request for Comments on the Official Agencies Serving These Areas

AGENCY: Grain Inspection, Packers and Stockyards Administration (GIPSA), USDA.

ACTION: Notice.

SUMMARY: The designations of the official agencies listed below will end in September and November 2001. GIPSA is asking persons interested in providing official services in the areas served by these agencies to submit an application for designation. GIPSA is also asking for comments on the services provided by these currently designated agencies: Amarillo Grain Exchange, Inc. (Amarillo); Cairo Grain Inspection Agency, Inc. (Cairo); Fostoria Grain Inspection, Inc. (Fostoria); Louisiana Department of Agriculture and Forestry (Louisiana); North Carolina Department of Agriculture (North Carolina); D. R. Schaal Agency, Inc. (Schaal); and Wisconsin Department of Agriculture, Trade and Consumer Protection (Wisconsin).

DATES: Applications and comments must be postmarked or sent by telecopier (FAX) on or before March 31, 2001.

ADDRESSES: Submit applications and comments to USDA, GIPSA, Janet M. Hart, Chief, Review Branch, Compliance Division, STOP 3604, Room 1647-S, 1400 Independence Avenue, SW., Washington, DC 20250-3604; FAX 202-690-2755. If an application is submitted by FAX, GIPSA reserves the right to request an original application. All applications and comments will be made available for public inspection at Room 1647-S, 1400 Independence Avenue, SW., during regular business hours.

FOR FURTHER INFORMATION CONTACT: Janet M. Hart at 202-720-8525, e-mail janhart@gipsadc.usda.gov.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

1. Current Designations Being Announced for Renewal

Official agency | Main office | Designation start | Designation end
Amarillo | Amarillo, TX | 12/01/1998 | 11/30/2001
Cairo | Cairo, IL | 11/01/1998 | 09/30/2001
Fostoria | Fostoria, OH | 12/01/1998 | 11/30/2001
Louisiana | Baton Rouge, LA | 10/01/1998 | 09/30/2001
North Carolina | Raleigh, NC | 10/01/1998 | 09/30/2001
Schaal | Belmond, IA | 12/01/1998 | 11/30/2001
Wisconsin | Madison, WI | 12/01/1998 | 11/30/2001.

a. Pursuant to Section 7(f)(2) of the Act, the following geographic area, in the States of Oklahoma and Texas, is assigned to Amarillo.

In Texas:

Bounded on the North by the Texas-Oklahoma State line to the eastern Clay County line;

Bounded on the East by the eastern Clay, Archer, Throckmorton, Shackelford, and Callahan County lines;

Bounded on the South by the southern Callahan, Taylor, and Nolan County lines;

Bounded on the West by the western Nolan, Fisher, Stonewall, King, and Cottle County lines; the western Childress County line north to U.S. Route 287; U.S. Route 287 northwest to Donley County; the southern Donley and Armstrong County lines west to Prairie Dog Town Fork of the Red River; Prairie Dog Town Fork of the Red River northwest to State Route 217; State Route 217 west to FM 1062; FM 1062 west to U.S. Route 385; U.S. Route 385 north to Oldham County; the southern Oldham County line; the western Oldham, Hartley, and Dallam County lines.

Beaver, Beckham, Cimarron, Ellis, Harper, Roger Mills, and Texas Counties, Oklahoma.

b. Pursuant to Section 7(f)(2) of the Act, the following geographic area, in the States of Illinois, Kentucky, and Tennessee, is assigned to Cairo.

Randolph County (southwest of State Route 150 from the Mississippi River north to State Route 3); Jackson County (southwest of State Route 3 southeast to State Route 149; State Route 149 east to State Route 13; State Route 13 southeast to U.S. Route 51; U.S. Route 51 south to Union County); and Alexander, Johnson, Hardin, Massac, Pope, Pulaski, and Union Counties, Illinois.

Ballard, Calloway, Carlisle, Fulton, Graves, Hickman, Livingston, Lyon, Marshall, McCracken, and Trigg Counties, Kentucky.

Benton, Dickson, Henry, Houston, Humphreys, Lake, Montgomery, Obion, Stewart, and Weakley Counties, Tennessee.

Cairo's assigned geographic area does not include the following grain elevator inside Cairo's area which has been and will continue to be serviced by the following official agency: Memphis Grain Inspection Service: Cargill, Inc., Tiptonville, Lake County, Tennessee.

c. Pursuant to Section 7(f)(2) of the Act, the following geographic area, in the State of Ohio, is assigned to Fostoria.

Bounded on the North by the northern and eastern Fulton County lines; the eastern Henry County line; the northern and eastern Wood County lines; the northern Sandusky County line east to State Route 590;

Bounded on the East by State Route 590 south to Seneca County; the northern Seneca County line east to State Route 53; State Route 53 south to Wyandot County; the northern Wyandot County line; the northern Crawford County line east to State Route 19; State Route 19 south to U.S. Route 30;

Bounded on the South by U.S. Route 30 west to the western Hancock County line; and

Bounded on the West by the western Hancock County line; the southern Henry County line west to State Route 108; State Route 108 north to U.S. Route 24; U.S. Route 24 southwest to the Henry County line; the western Henry and Fulton County lines.

d. Pursuant to Section 7(f)(2) of the Act, the following geographic area, the entire State of Louisiana, except those export port locations within the State which are serviced by GIPSA, is assigned to Louisiana.

e. Pursuant to Section 7(f)(2) of the Act, the following geographic area, the entire State of North Carolina, except those export port locations within the State which are serviced by GIPSA, is assigned to North Carolina.

f. Pursuant to Section 7(f)(2) of the Act, the following geographic area, in the State of Iowa, is assigned to Schaal.

Bounded on the North by the northern Kossuth County line from U.S. Route 169; the northern Winnebago, Worth, and Mitchell County lines;

Bounded on the East by the eastern Mitchell County line; the eastern Floyd County line south to B60; B60 west to T64; T64 south to State Route 188; State Route 188 south to C33;

Bounded on the South by C33 west to T47; T47 north to C23; C23 west to S56; S56 south to C25; C25 west to U.S. Route 65; U.S. Route 65 south to State Route 3; State Route 3 west to S41; S41 south to C55; C55 west to Interstate 35; Interstate 35 southwest to the southern Wright County line; the southern Wright County line west to U.S. Route 69; U.S. Route 69 to C54; C54 west to State Route 17; and

Bounded on the West by State Route 17 north to the southern Kossuth County line; the Kossuth County line west to U.S. Route 169; U.S. Route 169 north to the northern Kossuth County line.

Schaal's assigned geographic area does not include the following grain elevators inside Schaal's area which have been and will continue to be serviced by the following official agencies:

1. Central Iowa Grain Inspection Service, Inc.: North Central Farm Service, Chapin, Franklin County; and Land O'Lakes Elevator, d.b.a. Rockwell Ag Center, Rockwell, Cerro Gordo County.

2. A. V. Tischer and Son, Inc.: West Bend Elevator Co., Algona, Kossuth County; Stateline Coop, Burt, Kossuth County; Gold-Eagle, Goldfield, Wright County; and North Central Coop, Holmes, Wright County.

g. Pursuant to Section 7(f)(2) of the Act, the following geographic area, the entire State of Wisconsin, except those export port locations within the State, is assigned to Wisconsin.

2. Opportunity for Designation

Interested persons, including Amarillo, Cairo, Fostoria, Louisiana, North Carolina, Schaal, and Wisconsin, are hereby given the opportunity to apply for designation to provide official services in the geographic areas specified above under the provisions of Section 7(f) of the Act and section 800.196(d) of the regulations issued thereunder. Persons wishing to apply for designation should contact the Compliance Division at the address listed above for forms and information.

Designation Terms
Amarillo | 12/01/2001 to 09/30/2004.
Cairo | 10/01/2001 to 09/30/2004.
Fostoria | 12/01/2001 to 09/30/2004.
Louisiana | 10/01/2001 to 09/30/2004.
North Carolina | 10/01/2001 to 09/30/2004.
Schaal | 12/01/2001 to 09/30/2004.
Wisconsin | 12/01/2001 to 09/30/2004.

3. Request for Comments

GIPSA also is publishing this notice to provide interested persons the opportunity to present comments on the Amarillo, Cairo, Fostoria, Louisiana, North Carolina, Schaal, and Wisconsin official agencies. Commenters are encouraged to submit pertinent data concerning these official agencies including information on the timeliness, cost, quality, and scope of services provided. All comments must be submitted to the Compliance Division at the above address.

Applications, comments, and other available information will be considered in determining which applicant will be designated.

Authority: Pub. L. 94-582, 90 Stat. 2867, as amended (7 U.S.C. 71 et seq.).

Dated: February 20, 2001.
David R. Shipman,
Acting Administrator, Grain Inspection, Packers and Stockyards Administration.

[FR Doc. 01-5646 Filed 3-7-01; 8:45 am]

BILLING CODE 3410-EN-P